COMMISSION ON CIVIL RIGHTS

Notice of Public Meetings of the Colorado Advisory Committee to the U.S. Commission on Civil Rights

AGENCY: Commission on Civil Rights.

ACTION: Notice of public meetings.

SUMMARY: Notice is hereby given, pursuant to the provisions of the rules and regulations of the U.S. Commission on Civil Rights (Commission) and the Federal Advisory Committee Act that the Colorado Advisory Committee (Committee) to the U.S. Commission on Civil Rights will convene the following two business meetings: Thursday, June 18, 2025, at 3:00 p.m. Mountain Time and Tuesday, July 8, 2025, at 2:00 p.m. Mountain Time. The purpose of both meetings is to plan virtual briefings on the topic of examining campus antisemitism at the Auraria Campus, which includes the following institutions of higher education: Community College of Denver, Metropolitan State University of Denver, and the University of Colorado Denver. three Colorado college and universities.

DATES:

Wednesday, June 18, 2025, at 3:00 p.m. Mountain Time

Tuesday, July 8, 2025, at 2:00 p.m. Mountain Time

ADDRESSES: The meetings will be held via Zoom.

6/18/25 Meeting Link (Audio/Visual): https://tinyurl.com/52am5b6p.

Join by Phone (Audio Only): 1-833 435 1820 USA Toll Free; Meeting ID: 160 480 1440 #.

7/8/25 Meeting Link (Audio/Visual): https://tinyurl.com/ycy6unce.

Join by Phone (Audio Only): 1-833 435 1820 USA Toll Free; Meeting ID: 161 405 5298 #.

FOR FURTHER INFORMATION CONTACT: Ana Fortes, Designated Federal Official, at afortes@usccr.gov or by phone at 202-681-0857.

SUPPLEMENTARY INFORMATION: Any interested member of the public may attend the meetings via the links above. Before adjourning the meetings, the committee chair will announce that any member of the public may make a brief oral statement, as time allows. Per the Federal Advisory Committee Act, public minutes of meetings will include a list of persons who are present at meetings. If joining via phone, callers can expect to incur regular charges for calls they initiate over wireless lines, according to their wireless plan. The Commission will not refund any incurred charges. Callers will incur no charge for calls they initiate over land-line connections to the toll-free telephone number. Closed captioning is available by selecting “CC” in the meeting platform. To request additional accommodations, please email ebohor@usccr.gov at least 10 business days prior to each meeting.

Members of the public are entitled to submit written comments; the comments must be received in the regional office within 30 days following scheduled meetings. Written comments may be emailed to Evelyn Bohor at ebohor@usccr.gov; please include Colorado Committee in the subject line of the transmitting email. Persons who desire additional information may contact the Regional Programs Coordination Unit at 1-312-353-8311.

Records generated from these meetings may be inspected and reproduced at the Regional Programs Coordination Unit Office, as they become available, both before and after each meeting. Records of the meetings will be available via the file sharing website: https://usccr.box.com/s/aq52obvbs8uhkx2a0198po94elwbf2vl. Persons interested in the work of this Committee are directed to the Commission's website, http://www.usccr.gov, or may contact the Regional Programs Coordination Unit at ebohor@usccr.gov.

Agendas

June 18 and July 8, 2025

I. Welcome and Roll Call

II. Planning for July and August virtual briefings

III. Discuss Next Steps

IV. Public Comment

V. Adjournment

Dated: May 29, 2025.
David Mussatt,
Supervisory Chief, Regional Programs Unit.

[FR Doc. 2025-10086 Filed 6-3-25; 8:45 am]

BILLING CODE P